DEPARTMENT OF HEALTH AND HUMAN SERVICES

National Institutes of Health

National Institute on Drug Abuse; Amended Notice of Meeting

Notice is hereby given of a change in the meeting of the National Institute on Drug Abuse Special Emphasis Panel, March 15, 2005, 9 a.m. to March 15, 2005, 5 p.m. Double Tree Rockville, 1750 Rockville Pike, Rockville, MD, 20852 which was published in the Federal Register on January 21, 2005, Vol. 70, Num. 13.

The date of the meeting was changed to April 5, 2005. The meeting is closed to the public.

Dated: March 24, 2005.
LaVerne Y. Stringfield,
Director, Office of Federal Advisory Committee Policy.

[FR Doc. 05-6619 Filed 4-1-05; 8:45 am]

BILLING CODE 4140-01-M